DEPARTMENT OF HOUSING AND URBAN DEVELOPMENT

[Docket No. FR-5909-N-80]

30-Day Notice of Proposed Information Collection: Disaster Recovery Grant Reporting System

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: December 27, 2016.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Anna P. Guido, Reports Management Officer, QMAC, Department of Housing and Urban Development, 451 7th Street SW., Washington, DC 20410; email Anna P. Guido@hud.gov or telephone 202-402-5535.

This is not a toll-free number. Persons with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on September 21, 2016 81 FR 64934.

A. Overview of Information Collection

Title of Information Collection: Disaster Recovery Grant Reporting System.

OMB Approval Number: 2506-0165.

Type of Request: Revision of currently approved collection.

Form Number: SF-424 Application for Federal Assistance.

Description of the need for the information and proposed use: Disaster Recovery Grant Reporting (DRGR) System is a grants management system used by the Office of Community Planning and Development to monitor special appropriation grants under the Community Development Block Grant program. This collection pertains to Community Development Block Grant Disaster Recovery (CDBG-DR), Neighborhood Stabilization Program (NSP), Rural Capacity Building (RCB) for Community Development, and Affordable Housing Capacity Building for Affordable Housing and Community Development Program (Section 4 program) grant appropriations.

The CDBG program is authorized under Title I of the Housing and Community Development Act of 1974, as amended. Following major disasters, Congress appropriates supplemental CDBG funds for disaster recovery. According to Section 104(e)(1) of the Housing and Community Development Act of 1974, HUD is responsible for reviewing grantees' compliance with applicable requirements and their continuing capacity to carry out their programs. Grant funds are made available to states and units of general local government, Indian tribes, and insular areas, unless provided otherwise by supplemental appropriations statute, based on their unmet disaster recovery needs.

The Rural Capacity Building (RCB) Program enhances the capacity and ability of local governments, Indian tribes, housing development organizations, rural Community Development Corporations (CDCs), and rural Community Housing Development Organizations (CHDOs), to carry out community development and affordable housing activities that benefit low- and moderate-income families and persons in rural areas. The original authorizing statute for the RCB program is the Consolidated and Further Continuing Appropriations Act, 2012, Public Law 112-55.

The Capacity Building for Affordable Housing and Community Development Program, also known as the Section 4 program, was originally authorized under Section 4 of the HUD Demonstration Act of 1993 (Pub. L. 103-120, 107 Stat. 1148, 42 U.S.C. 9816 note), as amended. The program enhances the capacity and ability of community development corporations (CDCs) and community housing development organizations (CHDOs) to carry out community development and affordable housing activities that benefit low-income persons.

Respondents: DRGR is used to monitor CDBG-DR, NSP, NSP-TA, RCB and Section 4 grants, as well as several programs that do not fall under the Office of Block Grant Assistance. Separate information collections have been submitted and approved for these programs. CDBG-DR and NSP grant funds are made available to states and units of general local government, Indian tribes, and insular areas, unless provided otherwise by supplemental appropriations statute. NSP-TA grant funds are awarded on a competitive basis and are open to state and local governments, as well as non-profit groups and consortia that may include for-profit entities. RCB grants are competitively awarded to local governments, Indian tribes, housing development organizations, rural Community Development Corporations (CDCs), and rural Community Housing Development Organizations (CHDOs). Section 4 grant funds are directly awarded to grantees designated in the authorizing statute and subsequent appropriations.

Information collection | Number of respondents | Frequency of response | Responses per annum | Burden hour per response | Annual burden hours | Hourly cost per response | Annual cost
CDBG-DR Non-Recurring
Published Action Plan | 7 | 1 | 7 | 40.00 | 280.00 | $25.00 | $7,000.00
SF 424 | 0 | 0 | 0 | 0.00 | 0.00 | 0.00 | 0.00
Procurement, Financial Controls and DOB documentation | 7 | 1 | 7 | 6.00 | 42.00 | 25.00 | 1,050.00
Performance and Financial Projections | 7 | 1 | 7 | 8.00 | 56.00 | 25.00 | 1,400.00
Grant Agreement (HUD 40092) | 20 | 1 | 20 | 1.00 | 20.00 | 25.00 | 500.00
Grantee's Written Agreements | 20 | 1 | 20 | 5.00 | 100.00 | 25.00 | 2,500.00
DRGR Activation, Activity Set-Up and Completion | 20 | 1 | 20 | 20.00 | 400.00 | 25.00 | 10,000.00
CDBG-DR Recurring
Average Sized Grants Online Quarterly Reporting via DRGR | 87 | 4 | 348 | 9.00 | 3,132.00 | 25.00 | 78,300.00
Large Grants Online Quarterly Reporting via DRGR | 27 | 4 | 108 | 57.00 | 6,156.00 | 25.00 | 153,900.00
Average-sized grants online voucher submissions | 87 | 61 | 5,307 | 0.22 | 1,168.00 | 25.00 | 29,189.00
Large-sized grants online voucher submission | 27 | 947 | 25,569 | 0.37 | 9,460.53 | 25.00 | 236,513.25
CDBG-DR Subtotal | 309 | 1,022 | 31,413 |  | 20,814.07 | 25.00 | 520,351.75
NSP Recurring
Online Quarterly Reporting via DRGR | 617 | 4 | 2,468 | 4.00 | 9,872.00 | 25.00 | 246,800.00
DRGR voucher submissions | 617 | 38 | 23,446 | 0.18 | 4,220.28 | 25.00 | 105,507.00
NSP Subtotal | 1,234 | 42 | 25,914 | 4.18 | 14,092.28 | 25.00 | 352,307.00
NSP3-TA Recurring
TA work plan submissions | 12 | 5 | 60 | 8.00 | 480.00 | 25.00 | 12,000.00
DRGR voucher submissions | 12 | 38 | 456 | 0.18 | 82.08 | 25.00 | 2,052.00
NSP3-TA Subtotal | 24 | 43 | 516 | 8.18 | 562.00 | 25.00 | 14,052.00
Rural Capacity and Section 4 Non-Recurring
DRGR Activation and Account Setup | 8 | 1 | 8 | 2.00 | 16.00 | 35.00 | 560.00
Action Plan Setup and Submission | 8 | 1 | 8 | 12.00 | 96.00 | 35.00 | 3,360.00
Rural Capacity and Section 4 Recurring
Action Plan Revisions | 16 | 2 | 32 | 0.50 | 16.00 | 35.00 | 560
Semi-Annual Report Submission | 16 | 2 | 32 | 8.00 | 256.00 | 35.00 | 8,960
Voucher Submission | 16 | 12 | 192 | 0.25 | 48.00 | 35.00 | 1,680
RCB and Section 4 Subtotal | 64 | 18 | 272 | 22.75 | 432.00 |  | 15,120
Total | 1,534 | 1,125 | 58,115 | N/A | 35,900.35 | Varies | 901,830.75

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: November 18, 2016.
Anna P. Guido,
Department Reports Management Officer, Office of the Chief Information Officer.

[FR Doc. 2016-28447 Filed 11-23-16; 8:45 am]

BILLING CODE 4210-67-P